MORRIS K. UDALL SCHOLARSHIP AND EXCELLENCE IN NATIONAL ENVIRONMENTAL POLICY FOUNDATION

Notice to Extend the Request for Comment on Draft Convening Report Regarding Negotiated Rulemaking and Bureau of Indian Affairs Funded School Facilities Repair, Renovation & Construction

AGENCY: United States Institute for Environmental Conflict Resolution, Morris K. Udall Foundation.

ACTION: Notice to extend the public comment period for the Draft Convening Report Regarding Negotiated Rulemaking and Bureau of Indian Affairs Funded School Facilities Repair, Renovation, & Construction.

SUMMARY: The U.S. Institute for Environmental Conflict Resolution gives notice that the comment period announced in the October 22, 2007 (72 FR 59556) on the draft convening report regarding Department of the Interior's (DOI) Bureau of Indian Affairs (BIA)-funded school facilities construction as identified in the No Child Left Behind Act of 2001 (NCLB Act) will be extended to February 1, 2008. The draft report was prepared at the request of the DOI, BIA, and Bureau of Indian Education (BIE). Such a convening report is described generally in the Negotiated Rulemaking Act of 1996, Public Law 104-320, Section 563(b).

As a neutral, independent federal program, the U.S. Institute and its impartial contractor team, Consensus Building Institute (CBI) conducted two-hundred (200) interviews of people with an interest in BIA-funded school facilities construction. The purpose of the interviews was to explore the opportunities for, and barriers to, using negotiated rulemaking to develop regulations implementing the requirements of the NCLB Act related to BIA-funded school facilities. The draft report covers school facility topics identified from the NCLB Act:

• Methods to catalog school facilities;

• Determining formulas for priority and funding for school replacement construction and new construction;

• Determining formulas for priority and funding for school renovation and repair;

• Facilities standards for home living (dormitory) situations.

In the draft report, CBI identified several key themes from its interviews:

• There is a strong willingness to go forward with a negotiated rulemaking, as it is required by statute.

• Interviewees were supportive of negotiating to improve the fairness, efficiency and transparency of the funding formulas for all aspects of school facilities funding.

• There is a need to integrate the formal negotiation with less formal methods of consulting with the tribes who will not have seats at the table. CBI suggests a national workshop for all tribes with school facilities as part of the preparation for the negotiation process. This workshop could help identify options for the negotiating committee to work with.

• Representation of the tribes on the negotiating committee is required by the NCLB Act to be roughly proportional to the percent of students each tribe has in the system. For the majority of tribes (i.e. beyond the top eleven for student population), there will need to be a process for sharing seats or otherwise developing representation structures.

The draft convening report may be accessed at: http://www.cbuilding.org and at: http://www.ecr.gov. This notice invites interested individuals, organizations and governments to review and offer comments that focus on the findings and recommendations presented draft convening report.

DATES: Please submit comments on or before February 1, 2008.

ADDRESSES: You may submit comments by any of the following methods:

• Email: bie@cbuilding.org.

• Fax: 1-617-492-1919.

• Mail: Consensus Building Institute; Attn: BIE Convening Draft Report Comment, 238 Main Street, Suite 400, Cambridge, MA 02142.

FOR FURTHER INFORMATION CONTACT: Patrick Field, Consensus Building Institute, 238 Main Street, Suite 400, Cambridge, MA 02142, (617) 492-1414 x118, pfield@cbuilding.org; Sarah Palmer, Senior Program Manager, U.S. Institute for Environmental Conflict Resolution, 130 S. Scott Avenue, Tucson, AZ 85701, phone (520) 901-8556, fax (520) 901-8557, palmer@ecr.gov; Michele F. Singer, Director, Office of Regulatory Management, Office of the Assistant Secretary, Indian Affairs, 1001 Indian School Road, NW., Albuquerque, NM 87104, phone (505) 563-5415, fax (505) 563-3811, michele_f_singer@ios.doi.gov.

SUPPLEMENTARY INFORMATION:

Background

The No Child Left Behind Act (NCLB Act) requires the Department of the Interior to use procedures set out in the Negotiated Rulemaking Act of 1996, Pub. L. 104-320, Section 563 when developing regulations to implement the NCLB Act's provisions regarding schools operated or funded by the BIA. BIA has used negotiated rulemaking to address six (6) of the seven (7) regulations required under the NCLB Act. DOI and BIA want to assess the feasibility of using the negotiated rulemaking process to develop the final rule, dealing with school construction and repair.

In the fall of 2006 DOI sought assistance with this effort from the U.S. Institute, an independent impartial government entity with expertise in convening, assessment and alternative dispute resolution processes. In accordance with its statutory authority, the 1998 Environmental Policy and Conflict Resolution Act (Pub. L. 105-156, codified at 20 U.S.C. 5601, et seq.), the U.S. Institute conducted a convening assessment. For more information on the U.S. Institute, please visit http://www.ecr.gov.

The U.S. Institute contracted with an independent, impartial convening team, the Consensus Building Institute (CBI), to carry out interviews and prepare a draft convening report. The scope of the draft convening report includes views on school facility topics identified from the NCLB Act and the opportunities of and barriers to negotiated rulemaking. To understand the range of perspectives on or interests in these topics, the convening team conducted 200 confidential interviews with tribal officials or their designees, representative of BIA-funded or grant-funded tribal schools, and others with an interest in Bureau-funded school facilities construction on the following:

• Interviewees' views on the substantive issues listed above;

• Suggestions for how diverse geographic, size, and tribal interests can best be represented on a Negotiated Rulemaking Committee;

• Any concerns or barriers to the establishment of and successful execution of a Negotiated Rulemaking Committee on these topics; and

• Consultative activities and potential approaches to consultation that the Bureau might undertake regarding these issues.

The draft convening report reflects CBI findings and preliminary recommendations to DOI, BIA, and BIE based on these interviews. The draft report will be made available to all interviewees for comment. Upon receipt of comments, CBI and the U.S. Institute will consider all comments and prepare a final report for the Department of the Interior, Bureau of Indian Affairs and Bureau of Indian Education. All comments received on the draft will be made available to DOI, BIA, and BIE. The final report will also be made available to the interviewees, all interested tribes, and the general public via a Web site link.

Authority: 20 U.S.C. 5601, et seq.

Dated: December 13, 2007.
Christopher L. Helms,
Executive Director, Morris K. Udall Scholarship and Excellence in National Environmental Policy Foundation.

[FR Doc. 07-6090 Filed 12-19-07; 8:45 am]

BILLING CODE 6820-FN-M